DEPARTMENT OF AGRICULTURE

Forest Service

Umatilla National Forest, Walla Walla Ranger District, Oregon, Cobbler II Timber Sale and Fuels Reduction Project

AGENCY: Forest Service, USDA.

ACTION: Notice of intent to prepare a Supplemental Environmental Impact Statement (SEIS) to the Final Environmental Impact Statement (FEIS) for the Cobbler II Timber Sale and Fuels Reduction Project.

SUMMARY: On January 27, 2011, Umatilla National Forest Supervisor Kevin Martin withdrew his October 8, 2010 Record of Decision (ROD) for the Cobbler II Timber Sale and Fuels Reduction Final Environmental Impact Statement (FEIS).

The Umatilla National Forest will prepare a Supplemental Environmental Impact Statement (SEIS) to clarify and revise portions of the Cobbler II Timber Sale and Fuels Reduction project FEIS analysis.

DATES: There will be no additional scoping period for the Cobbler II Timber Sale and Fuels Reduction Supplemental Environmental Impact Statement (SEIS). This is consistent with regulations found at 40 CFR 1509.2 (ii)(4). There will be a 45-day public comment period held when the Draft SEIS is released.

The Draft SEIS is expected in June 2011. The final SEIS is expected in October 2011.

ADDRESSES: This SEIS analysis in being overseen by: Michael Rassbach, District Ranger; Walla Walla Ranger District; 1415 W. Rose; Walla Walla, Washington 99362.

FOR FURTHER INFORMATION CONTACT: Kimpton Cooper, 509-522-6290 or kmcooper@fs.fed.us.

Individuals who use telecommunication devices for the deaf (TDD) may call the Federal Information Relay Service (FIRS) at 1-800-877-8339 between 8 a.m. and 8 p.m., Eastern Time, Monday through Friday.

Information concerning the Cobbler II Timber Sale and Fuels Reduction project FEIS can be found on the Umatilla National Forest Web site at (http://www.fs.fed.us/nepa/nepa_test/fs-usda-pop.html?project=29678).

SUPPLEMENTARY INFORMATION:

Purpose and Need for Action

The Purpose and Need for the Cobbler II Timber Sale and Fuels Reduction SEIS is the same as identified within the Cobbler II Timber Sale and Fuels Reduction Final Environmental Impact Statement (FEIS) on pages 1-4 and 1-5. The Forest Service is preparing this Supplemental Environmental Impact Statement (SEIS) to clarify and revise sections of the environmental analysis conducted for the original October 2010 Cobbler II FEIS.

Proposed Action

The actions proposed and analyzed in the Cobbler II FEIS will not change in the SEIS. The Umatilla National Forest proposes to supplement the following analysis to that which was originally presented in the Cobbler II Timber Sale and Fuels Reduction FEIS (October 2010).

• Chapter 1

○ Minor editorial changes and additional clarifying information.

• Chapter 2

○ Minor editorial changes and additional clarifying information.

• Chapter 3

○ Clarification of cumulative effects analysis for all resources .

○ Revision of wildlife environmental effects section.

○ Revision of vegetation environmetal effects section.

○ Other editorial changes and additional clarifying information.

The supplemental information presented within the SEIS will replace the corresponding information found in the October 2010 Cobbler II FEIS. For example, the revised wildlife environmental effects section of the SEIS will replace the wildlife environmental effects section of the FEIS. All other areas of the anlaysis that are not identified for supplementation within the SEIS will remain unaltered from its presentation in the FEIS. In this manner the SEIS and FEIS will be companion documents.

Responsible Official

Forest Supervisor for the Umatilla National Forest, Kevin Martin.

Nature of Decision To Be Made

The decisions to be made include:

1. Whether a Forest Plan amendment should occur at this time?

2. Whether harvest and prescribed landscape fire along with associated activities should occur, and if so, how much and where?

3. Whether other vegetation management activities (hardwood restoration, meadow restoration, and non-commercial thinning) and their associated activities should occur and when should they occur?

4. What monitoring or mitigation measures should be taken or needed?

Opportunity to Comment

This notice is for a supplemental EIS, and therefore no further scoping is necessary (40 CFR 1502.9 (ii)(4)).

The public has had several formal opportunities to comment on this project prior to the initiation of this SEIS. The public will be provided a formal opportunity to comment when the Draft SEIS is released in June 2011.

Comments received in response to this notice, including names and addresses of those who comment, will become part of the public record for this proposed action. Comments submitted anonymously will be accepted and considered; however, anonymous comments will not provide the respondent with standing to participate in subsequent administrative review or judicial review.

Dated: April 28, 2011.
Kevin Martin,
Forest Supervisor.

[FR Doc. 2011-11097 Filed 5-5-11; 8:45 am]

BILLING CODE 3410-11-P[FRDOC][FR Doc. 08-???? Filed ?-??-08; 8:45 am]